DEPARTMENT OF DEFENSE

Office of the Secretary

[Transmittal No. 22-0W]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 22-0W.

Dated: August 23, 2024.
Aaron T. Siegel,
Alternate OSD Federal Register Liaison Officer, Department of Defense.

BILLING CODE 6001-FR-P

BILLING CODE 6001-FR-C

Transmittal No. 22-0W

REPORT OF ENHANCEMENT OR UPGRADE OF SENSITIVITY OF TECHNOLOGY OR CAPABILITY (SEC. 36(B)(5)(C), AECA)

(i) Purchaser: Government of Spain

(ii) Sec. 36(b)(1), AECA Transmittal No.: 18-19

Date: June 26, 2018

Implementing Agency: Navy

(iii) Description: On June 26, 2018, Congress was notified by Congressional certification transmittal number 18-19, of the possible sale, under Section 36(b)(1) of the Arms Export Control Act, of five (5) AEGIS Weapons Systems (AWS) MK7, six (6) shipsets Digital Signal Processing, five (5) shipsets AWS Computing Infrastructure MARK 1 MOD 0, five (5) shipsets Operational Readiness Test Systems (ORTS), five (5) shipsets MK 99 MOD 14 Fire Control System, five (5) shipsets MK 41 Baseline VII Vertical Launching Systems (VLS), two (2) All-Up-Round MK 54 Mod 0 lightweight torpedoes, twenty (20) Standard Missile 2 (SM-2) Block IIIB missiles and MK 13 canisters with AN/DKT-71 warhead compatible telemeter. Also included was one (1) S4 AWS computer program, five (5) shipsets Ultra High Frequency (UHF) Satellite Communications (SATCOM), five (5) shipsets AN/SRQ-4 radio terminal sets, five (5) shipsets ordnance handling equipment, five (5) shipsets Selective Availability Anti-Spoofing Modules (SAASM), five (5) shipsets aviation handling and support equipment, five (5) shipsets AN/SLQ-24E Torpedo countermeasures systems, five (5) shipsets LM04 Thru-Hull XBT Launcher and test canisters, one (1) shipset MK 36 MOD 6 Decoy Launching System, five (5) shipsets Link Level COMSEC (LLC) 7M for LINK 22, five (5) shipsets Maintenance Assist Module (MAM) cabinets, five (5) shipsets technical documentation, five (5) shipsets installation support material, special purpose test equipment, system engineering, technical services, on-site vendor assistance, spare parts, systems training, foreign liaison office and staging services necessary to support ship construction and delivery, spare and repair parts, tools and test equipment, support equipment, repair and return support, personnel training and training equipment, publications and technical documentation, U.S. Government and contractor engineering and logistics support services, and other related elements of logistic and program support. The estimated total cost was $860.4 million. Major Defense Equipment (MDE) constituted $324.4 million of this total.

On June 15, 2020, Congress was notified by Congressional certification transmittal number 20-0G of an additional MDE sale of thirty (30) All-Up-Round MK 54 Lightweight Torpedoes (LWT). The following non-MDE items were also be included: MK 54 LWT expendables; MK 54 turnaround kits; MK 54 containers; one (1) MK-695 Torpedo Systems Test Set (TSTS); support equipment including fire control modification platforms and spare parts; torpedo spare parts; training; publications; software; U.S. Government and contractor engineering, technical, and logistics support services and other related elements of logistics and program support. The addition of these items resulted in a net increase in MDE cost of $45 million, resulting in a revised MDE cost of $369.4 million. The total estimated case value increased to $940.4 million.

On June 8, 2022, Congress was notified by Congressional certification transmittal number 22-0G of the MDE replacement of the previously notified two (2) All Up Round MK 54 Mod 0 LWTs with two (2) Exercise MK 54 Mod 0 LWTs. Also included was additional Engineering Technical Assistance for redesign of Radar Signal Processing Group configuration and updates to International Aegis Fire Control Loop design; shipsets of SAASM units and associated spares; COMSEC equipment for use between test sites; and removal of one (1) shipset MK 36 Mod 6 Decoy Launching System. The MDE total value remained $369.4 million; however, the non-MDE estimated value increased from $571 million to $810.6 million. The total estimated case value increased to $1.18 billion.

This transmittal notifies the MDE inclusion of up to an additional sixty-two (62) SM-2 Block IIIB missiles in tactical and telemetered configurations. Also included are MK 13 canisters; spare parts and associated containers; personal training and training equipment; publications and technical data; U.S. Government and contractor technical assistance; and other related elements of logistics and program support. The addition of these items will result in a net increase in MDE value of $260 million, resulting in a revised MDE value of $629.4 million. The non-MDE estimated value will increase from $810.6 million to $850.6 million. The total estimated case value will increase by $300 million to $1.48 billion.

(iv) Significance: The proposed articles and services will support Spain's capability to commission its new F-110 frigates with the AEGIS Weapon System (AWS).

(v) Justification: This proposed sale will support the foreign policy and national security of the United States by improving the security of a NATO ally which is an important force for political stability and economic progress in Europe. It is vital to the U.S. national interest to assist Spain in developing and maintaining a strong and ready self-defense capability.

(vi) Sensitivity of Technology: The Sensitivity of Technology Statement contained in the original notification applies to items reported here.

(vii) Date Report Delivered to Congress: February 27, 2023

[FR Doc. 2024-19353 Filed 8-27-24; 8:45 am]

BILLING CODE 6001-FR-P